DEPARTMENT OF HOMELAND SECURITY

Coast Guard

33 CFR Part 165

[Docket No. USCG-2012-0052]

RIN 1625-AA87

Security Zones; G8/North Atlantic Treaty Organization (NATO) Summit, Chicago, IL

AGENCY: Coast Guard, DHS.

ACTION: Notice of proposed rulemaking.

SUMMARY: The Coast Guard proposes to establish four separate security zones on both the waters and waterfront area of Chicago Harbor and the Chicago River. These proposed temporary security zones are intended to restrict vessels, regardless of the mode of propulsion, and people from certain land and water areas in Chicago Harbor and the Chicago River during the G8/NATO Summit and associated events, which will be held in Chicago from May 16, 2012, through May 24, 2012. These security zones are necessary to protect visiting government officials and dignitaries from the potential dangers, including terrorists threats, associated with a large scale, international political event.

DATES: Comments and related materials must be received by the Coast Guard on or before April 5, 2012.

ADDRESSES: You may submit comments identified by docket number USCG-2012-0052 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed temporary rule, call or email CWO Jon Grob, Prevention Department, Coast Guard Sector Lake Michigan, Milwaukee, WI at (414) 747-7188, email at Jon.K.Grob@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting Comments

If you submit a comment, please include the docket number for this rulemaking (USCG-2012-0052), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2012-0052” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2012-0052” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why you believe a public meeting would be beneficial. If we determine that one would aid this rulemaking, we will hold one at a time and place announced by a later notice in the Federal Register.

Background and Purpose

Leaders from around the world will gather in Chicago this spring for two diplomatic summits hosted by President Obama. Specifically, the G8 and NATO will hold summits and certain associated events in Chicago from May 16, 2012, through May 24, 2012. G8 (Group of Eight) was founded in 1975. The G8 is a group of eight countries that has served in recent years as a forum for the leaders of the world's largest markets to discuss critical issues of the day ranging from the global economy to pressing security challenges. Meanwhile, NATO was founded in 1949 and includes the United States and twenty seven other countries. Today, NATO is the hub of an international global security network.

Considering the international, economical, and political objectives of G8 and NATO along with the high concentration of dignitaries and political figures, the G8/NATO Summit is expected to draw significant domestic and international media interest and also attract a large number of protesters. Consequently, the Captain of the Port, Sector Lake Michigan (COTP), has determined that the implementation of four separate security zones is necessary to mitigate the threat of violence and ensure the safety and security of those who attend, participate, and visit the G8/NATO Summit and any associated events.

Discussion of Proposed Rule

To alleviate the safety and security concerns presented by the international, economical, and political implications of G8 and NATO; the high concentration of dignitaries and political figures; the expected interest of domestic and international media; and the anticipated presence of protesters; the Captain of the Port, Sector Lake Michigan, has determined that it is necessary to establish four separately enforceable security zones. These zones will allow for the closure of four specific areas on and around the waterfront along both Chicago Harbor and the Chicago River.

The four proposed temporary security zones will encompass:

(1) Security Zone A—This zone will encompass all U.S. navigable waters, facilities, and shoreline within the arc of a circle with a 2000-yard radius of the Burnham park hoist ramp with its center point located in the approximate position 41°51′37″ N, 087°36′44″ W. [DATUM: NAD 83].

(2) Security Zone B—This zone will encompass all U.S. navigable waters, facilities, and shoreline within the arc of a circle with a 2000-yard radius of the outermost tip of the Chicago lock with its center point located in the approximate position 41°53′19″ N, 087°36′17″ W. [DATUM: NAD 83].

(3) Security Zone C—This zone will encompass all U.S. navigable waters of the Chicago River between the Western Gate of the Chicago Controlling Works Lock which is located in approximate position 41°53′18″ N, 087°36′28″ W. [DATUM: NAD 83] and the juncture of the north and south branches of the Chicago River which is located in approximate position 41°53′11″ N, 087°38′15″ W. [DATUM: NAD 83]

(4) Security Zone D—This zone will encompass all U.S. navigable waters of the Chicago River between Mile Marker 322.0, which is in the vicinity of the Loomis Street coal storage terminal slip, and Mile Marker 326.4, which is in the vicinity of the Chicago Tribune Wharf. [DATUM: NAD 83]

These proposed security zones would be effective and enforced between 8 a.m. on May 16, 2012, and 8 a.m. on May 24, 2012.

In accordance with 33 CFR 165.33, no person or vessel, regardless of the mode of propulsion, may enter or remain in any one of the security zones established in this proposed rule without first obtaining permission from the Captain of the Port Sector Lake Michigan. The Captain of the Port Sector Lake Michigan, at his or her discretion, may permit persons and vessels to enter the security zones addressed in this proposed rule.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, and does not require an assessment of potential costs and benefits under section 6(a)(3) of that Order. The Office of Management and Budget has not reviewed it under that Order. It is not “significant” under the regulatory policies and procedures of the Department of Homeland Security (DHS). We conclude that this proposed rule is not a significant regulatory action because we anticipate that it will have minimal impact on the economy, will not interfere with other agencies, will not adversely alter the budget of any grant or loan recipients, and will not raise any novel legal or policy issues. Each security zone has been designed to allow as much free transit of vessels as possible while also preserving the security of the G8/NATO Summit. Thus, vessels may still transit portions of the affected waterways not implicated by the proposed security zones. Also, under certain conditions, vessels may still transit through a security zone when permitted by the Captain of the Port, Sector Lake Michigan. Moreover, the COTP retains the discretion to suspend enforcement of any or all of these proposed security zones when he deems necessary. On the whole, the Coast Guard expects insignificant adverse impact to mariners from the activation of these security zones.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners and operators of vessels, regardless of the mode of propulsion, intending to transit or anchor in the security zones established in this proposed rule. These security zones would not have a significant economic impact on a substantial number of small entities for the same reasons discussed above in the Regulatory Planning and Review section.

If you think that your business, organization, or governmental jurisdiction qualifies as a small entity and that this proposed rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If this proposed rule would affect your small business, organization, or governmental jurisdiction and you have questions concerning its provisions or options for compliance, please contact the Waterways Management Department, Coast Guard Marine Safety Unit Chicago, Willowbrook, IL at (630) 986-2155. The Coast Guard will not retaliate against small entities that question or object to this rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed temporary rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed temporary rule would not result in such an expenditure, we do discuss the effects of this proposed temporary rule elsewhere in this preamble.

Taking of Private Property

This proposed temporary rule will not affect the taking of private property or otherwise have taking implications under Executive Order 12630, Governmental Actions and Interference with Constitutionally Protected Property Rights.

Civil Justice Reform

This proposed temporary rule meets applicable standards in sections 3(a) and 3(b)(2) of Executive Order 12988, Civil Justice Reform, to minimize litigation, eliminate ambiguity, and reduce burden.

Protection of Children

We have analyzed this proposed temporary rule under Executive Order 13045, Protection of Children from Environmental Health Risks and Safety Risks. This proposed temporary rule is not an economically significant rule and does not create an environmental risk to health or risk to safety that may disproportionately affect children.

Indian Tribal Governments

This proposed temporary rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed temporary rule does not use technical standards. Therefore, we did not consider the use of voluntary consensus standards.

Environment

We have analyzed this proposed temporary rule under Commandant Instruction M16475.lD and Department of Homeland Security Management Directive 5100.1, which guide the Coast Guard in complying with the National Environmental Policy Act of 1969 (NEPA) (42 U.S.C. 4321-4370f), and have made a preliminary determination that this action is one of a category of actions that do not individually or cumulatively have a significant effect on the human environment. This proposed temporary rule involves the establishing of security zones and therefore, is categorically excluded under paragraph 34(g) of the Instruction. A preliminary environmental analysis check list supporting this preliminary determination is available in the docket where indicated under ADDRESSES. We seek any comments or information that may lead to the discovery of a significant environmental impact from this proposed temporary rule.

List of Subjects in 33 CFR Part 165

Harbors, Marine security, Navigation (water), Reporting and recordkeeping requirements, Security measures, Waterways.

For the reasons discussed in the preamble, the Coast Guard proposes to amend 33 CFR Part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.T09-0052 to read as follows:

§ 165.T09-0052 Security Zones; G8/North Atlantic Treaty Organization (NATO) Summit, Chicago, Illinois.

(a) Locations. The following areas are designated security zones:

(1) Security Zone A—Security Zone A encompasses all U.S. navigable waters, facilities, and shoreline within the arc of a circle with a 2000-yard radius of the Burnham park hoist ramp with its center point located in the approximate position 41°51′37″ N, 087°36′44″ W. [DATUM: NAD 83].

(2) Security Zone B—Security Zone B encompasses all U.S. navigable waters, facilities, and shoreline within the arc of a circle with a 2000-yard radius of the outermost tip of the Chicago lock with its center point located in the approximate position 41°53′19″ N, 087°36′17″ W. [DATUM: NAD 83].

(3) Security Zone C—Security Zone C encompasses all U.S. navigable waters of the Chicago River between the Western Gate of the Chicago Controlling Works Lock which is located in approximate position 41°53′18″ N, 087°36′28″ W. [DATUM: NAD 83] and the juncture of the north and south branches of the Chicago River which is located in approximate position 41°53′11″ N, 087°38′15″ W. [DATUM: NAD 83]

(4) Security Zone D—This zone will encompass all U.S. navigable waters of the Chicago River between Mile Marker 322.0, which is in the vicinity of the Loomis Street coal storage terminal slip, and Mile Marker 326.4, which is in the vicinity of the Chicago Tribune Wharf. [DATUM: NAD 83]

(b) Enforcement period. The security zones described in paragraph (a) of this section will be effective and enforced between 8 a.m. on May 16, 2012, and 8 a.m. on May 24, 2012.

(c) Regulations. (1) In accordance with § 165.33, entry into any area of these security zones is prohibited unless authorized by the Coast Guard Captain of the Port, Sector Lake Michigan, or his or her on-scene designated representative.

(2) The “designated representative” of the Captain of the Port, Sector Lake Michigan, is any Coast Guard commissioned, warrant or petty officer who has been designated by the Captain of the Port, Sector Lake Michigan, to act on his or her behalf.

(3) Vessel operators desiring to enter or operate within any of the security zones shall contact the Captain of the Port, Sector Lake Michigan, or his or her on-scene designated representative to obtain permission to do so. The Captain of the Port, Sector Lake Michigan, or his or her on-scene designated representative may be contacted via VHF Channel 16.

(4) Vessel operators given permission to enter or operate in any of the security zones shall comply with all directions given by the Captain of the Port, Sector Lake Michigan, or his or her on-scene designated representative.

Dated: February 3, 2012.
M.W. Sibley,
Captain, U.S. Coast Guard, Captain of the Port, Sector Lake Michigan.

[FR Doc. 2012-5330 Filed 3-5-12; 8:45 am]

BILLING CODE 9110-04-P